DEPARTMENT OF ENERGY

Federal Energy Regulatory Commission

[Project No. 15401-000]

Molitor, LLC; Notice of Preliminary Permit Application Accepted for Filing and Soliciting Comments, Motions To Intervene, and Competing Applications

On April 28, 2025, GeoSense, LLC, on behalf of Molitor, LLC (the applicant), filed an application for a preliminary permit, pursuant to section 4(f) of the Federal Power Act (FPA), proposing to study the feasibility of the Molitor Hydroelectric Project (or Project) to be located on Deep Creek, tributary of the Snake River, in Twin falls County, Idaho. The sole purpose of a preliminary permit, if issued, is to grant the permit holder priority to file a license application during the permit term. A preliminary permit does not authorize the permit holder to perform any land-disturbing activities or otherwise enter upon lands or waters owned by others without the owners' express permission.

The proposed project would consist of the following: (1) a 90-foot-long, 9.5 foot-high, 2-foot-wide concrete embankment; (2) a 0.5-acre impoundment with a normal surface elevation of approximately 3,310 feet above sea level; (3) a 3,500-foot-long concrete canal; (4) a 750-foot-long, 55-inch-diamater buried steel penstock; (5) a 40-foot-long, 25-foot-wide concrete and steel powerhouse containing a 714 kilowatt horizontal-Francis turbine-generator unit; (6) a 4,800-foot-long transmission line extending from powerhouse to the point of interconnection with Idaho Power facilities; and (7) appurtenant facilities. The estimated annual generation of the Project would be 4,376 megawatt-hours.

Applicants Contact: Peter Josten, GeoSense, LLC, 2742 Saint Charles Ave., Idaho Falls, ID 83404, (208) 339-3542, peter.gsense@gmail.com.

FERC Contact: Maryam Zavareh at Maryam.zavareh@ferc.gov.

Deadline for filing comments, motions to intervene, competing applications (without notices of intent), or notices of intent to file competing applications: by 5:00 p.m. Eastern Time on August 4, 2025. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number.

More information about this project, including a copy of the application, can be viewed or printed on the “eLibrary” link of Commission's website at http://www.ferc.gov/docs-filing/elibrary.asp. Enter the docket number in the docket number field to access the document. For assistance, contact FERC Online Support.

Dated: June 4, 2025.
Carlos D. Clay,
Deputy Secretary.

[FR Doc. 2025-10484 Filed 6-9-25; 8:45 am]

BILLING CODE 6717-01-P